ENVIRONMENTAL PROTECTION AGENCY

[EPA-R10-OAR-2015-0812; FRL-9940-60-Region 10]

Notice of Availability of Electronic Reporting; Federal Air Rules for Reservations Online Reporting System

AGENCY: Environmental Protection Agency (EPA).

ACTION: Notice.

SUMMARY: The Environmental Protection Agency (EPA) is notifying the public that electronic emissions reporting is now available for sources covered by the Federal Air Rules for Reservations (FARR). The FARR requires certain sources of air pollution on Indian Reservations in Idaho, Oregon, and Washington to register and report emissions to the EPA. Any person who owns or operates a source of air pollution with the potential to emit two or more tons per year of an air pollutant, with certain exceptions, must register annually and report those emissions. Registration and emissions reports are due within 90 days of commencing operations, and annually thereafter. The EPA created the FARR Online Reporting System (FORS) to help make registration and emissions reporting easier. The FORS, operated through the agency's Central Data Exchange (CDX), is CROMERR compliant, which means the electronic signature meets the EPA's regulatory electronic signature requirements.

ADDRESSES: Nancy Helm: Office of Air, Waste and Toxics, EPA Region 10, AWT-150, 1200 Sixth Ave., Suite 900, Seattle, WA 98101. 206-553-6908; or helm.nancy@epa.gov.

FOR FURTHER INFORMATION CONTACT: Nancy Helm: Office of Air, Waste and Toxics; 206-553-6908; or helm.nancy@epa.gov.

SUPPLEMENTARY INFORMATION: As of January 15, 2016, air pollution sources covered by the FARR as provided in 40 CFR 49.138 may register and report emissions electronically.

How to Access the System: The FORS can be accessed at https://cdx.epa.gov. New users will need to register and select FORS as their program service. The EPA intends to provide training to affected entities on how to access, register and use the system.

How to Get Help Using the System: The EPA has provided the CDX user guide to each source currently registered under the FARR, and to tribal governments in Idaho, Oregon, and Washington. That guide is available at http://yosemite.epa.gov/R10/tribal.nsf/programs/farr. The CDX Help Desk is available for technical support-related questions between the hours of 8:00 a.m. and 6:00 p.m. (ET) at 1-888-890-1995 or helpdesk@epacdx.net.

Confidential Business Information: Regulated entities may assert a business confidentiality claim covering any portion of the submitted information as provided in 40 CFR part 2, subpart B. Information claimed as confidential should be submitted on compact disk or flash drive and mailed to the FARR Registration Coordinator, EPA Region 10, AWT-150, 1200 Sixth Ave., Suite 900, Seattle, WA 98101. Confidential treatment is automatically forfeited for information submitted through the FORS. Note that emissions data and information necessary to determine emissions is not entitled to confidential treatment. Failure to assert a claim in the manner described in 40 CFR part 2, subpart B, allows the submitted information to be released to the public without further notice. Information subject to a business confidentiality claim may be disclosed by the EPA only to the extent set forth in the above-cited regulations.

Dated: December 18, 2015.
Janis Hastings,
Acting Director, Office of Air, Waste and Toxics.

[FR Doc. 2015-32510 Filed 12-23-15; 8:45 am]

BILLING CODE 6560-50-P